DEPARTMENT OF THE INTERIOR

Bureau of Land Management

DEPARTMENT OF AGRICULTURE

Forest Service

[BLM_FRN_MO4500176455]

Notice of Intent To Prepare an Environmental Impact Statement for the Proposed Skyline Mine Little Eccles Lease by Application in Emery County and Flat Canyon Lease Modification in Sanpete County, Utah

AGENCY: Bureau of Land Management, Interior, USDA Forest Service, Agriculture.

ACTION: Notice of intent.

SUMMARY: In compliance with the National Environmental Policy Act of 1969, as amended (NEPA), the Federal Land Policy and Management Act of 1976, as amended (FLPMA), the National Forest Management Act of 1976 (NFMA), and the Mineral Leasing Act of 1920, as amended (MLA), the Bureau of Land Management (BLM) Price Field Office, and U.S. Department of Agriculture Forest Service (USDA Forest Service) Manti-La Sal National Forest, as co-lead agencies, intend to prepare an Environmental Impact Statement (EIS) in response to a Lease by Application (LBA) for the Little Eccles Federal Coal Lease Tract (UTU-92226) of 120 acres and a Lease Modification Application (LMA) to add 640 acres to the Flat Canyon Lease Tract (UTU-77114). This notice is announcing the beginning of the scoping process to solicit public comments and identify issues. The EIS will evaluate potential impacts of leasing and underground mining of Federal coal reserves contained in both lease tracts.

DATES: This notice initiates the public-scoping process for the EIS. The lead agencies request that the public submit comments concerning the scope of the analysis, potential alternatives, and identification of relevant information, and studies by May 30, 2024. To afford the lead agencies the opportunity to consider comments in the Draft EIS, please ensure your comments are received prior to the close of the 45-day scoping period or 15 days after the last public meeting, whichever is later.

ADDRESSES: You may submit comments related to the Skyline Mine Little Eccles LBA and Flat Canyon LMA by the following methods:

• Website: https://eplanning.blm.gov/eplanning-ui/project/2015277/510

• Mail: Bureau of Land Management, Skyline Mine Little Eccles Lease by Application and Flat Canyon Lease Modification, 125 South 600 West, Price, Utah 84501

Documents pertinent to this proposal may be examined online at https://eplanning.blm.gov/eplanning-ui/project/2015277/510, https://www.fs.usda.gov/sopa/forest-level.php?110410, and at the BLM Price Field Office: 125 South 600 West, Price, Utah 84501.

FOR FURTHER INFORMATION CONTACT: Erika Tobin, BLM Green River District Mining Engineer, telephone 435-636-3605, address 125 South 600 West, Price, Utah 84501. Contact Ms. Tobin to have your name added to our mailing list. Individuals in the United States who are deaf, deafblind, hard of hearing, or have a speech disability may dial 711 (TTY, TDD, or TeleBraille) to access telecommunications relay services for contacting Ms. Tobin. Individuals outside the United States should use the relay services offered within their country to make international calls to the point-of-contact in the United States.

SUPPLEMENTARY INFORMATION: Canyon Fuel Company, LLC (hereafter “the Applicant”), submitted two coal lease applications to the BLM Price Field Office on June 10, 2019. One is an LBA for the Little Eccles Federal Coal Lease Tract of 120 acres in T. 14 S., R. 6 E., SLM, Emery County, Utah sec. 10: SE¼. The other is an LMA for the existing Flat Canyon Lease Tract to add 640 acres in T. 14 S., R. 5 E., SLM, Sanpete County, Utah sec. 9. Both tracts are adjacent to the existing Skyline Mine which has been in operation since 1981. The surface estate of the lease tracts is administered by the USDA Forest Service Manti-La Sal National Forest. The mineral estate (coal) is administered by the BLM Price Field Office. The BLM and USDA Forest Service, as Federal defendants in WildEarth Guardians v. Haaland (2:16-cv-00168) (D. Utah), have a responsibility under the Settlement Agreement filed March 8, 2023, to prepare an EIS and issue a decision to lease or to forgo leasing of the coal reserves in the Little Eccles Federal Coal Lease Tract and to modify or forgo lease modification of the Flat Canyon Federal Coal Lease Tract.

Purpose and Need for the Proposed Action

The purpose of the BLM and USDA Forest Service actions is to respond to: (1) the Applicant's LBA to competitively lease up to 120 acres and approximately 2.2 million tons of recoverable coal contained in the Little Eccles Federal Coal Lease Tract and (2) the Applicant's LMA for the existing Flat Canyon Federal Coal Lease Tract to increase the tract acreage by up to 640 acres and approximately 8.6 million tons of recoverable coal.

The need for the BLM action is established by the MLA sec. 2 and 3 (30 U.S.C. 201 and 203) and its implementing regulations (43 CFR 3432 and 3425), as amended by the Federal Coal Leasing Amendments Act of 1976, and the FLPMA sec. 102. (43 U.S.C. 1701).

The need for the USDA Forest Service action is to respond to requests for consent to coal leasing pursuant to the MLA, as amended.

Preliminary Proposed Action and Alternatives

Under the No Action alternative, the BLM would deny the LBA to lease the Little Eccles Federal Coal Lease Tract and LMA to modify the existing Flat Canyon Lease Tract. Under this alternative, none of the estimated 10.8 million tons of Federal coal would be leased and extraction of Federal coal within the lease tracts would not occur. There are an estimated 13.6 million tons of privately-owned coal contained in tracts abutting the Federal lease tracts. Under the No Action Alternative, it is reasonably foreseeable that approximately 8 million tons of privately-owned coal not subject to Federal decisions would be mined. However, the remaining 5.6 million tons of privately-owned coal would not be feasible to extract.

Under the Proposed Action alternative, the BLM would offer for competitive leasing the Little Eccles Federal Coal Lease Tract (UTU-92226; 120 acres) containing an estimated 2.2 million tons of recoverable coal and authorize the Applicant's requested non-competitive lease modification to add 640 acres and an estimated 8.6 million tons of recoverable coal to the Flat Canyon Lease Tract (UTU-77114). The USDA Forest Service, Manti-La Sal National Forest would consent to leasing both tracts of Federal coal. Leasing the Federal coal contained in the Little Eccles Federal Coal Lease Tract and the modified Flat Canyon Lease Tract would allow the Applicant to recover the full quantity of the estimated 13.6 million tons of privately-owned coal abutting the Federal lease tracts.

Under the Proposed Action the Federal coal leases would be subject to standard lease terms and conditions. In addition, as part of the NEPA process the BLM and USDA Forest Service may identify stipulations to address impacts to non-mineral interests and these stipulations may be included in the applicable decision(s) and attached to the applicable lease(s).

Other alternatives to be considered in the EIS are expected to be variations of tract configuration based on resource issues identified through the scoping process. The lead agencies welcome comments on all preliminary alternatives as well as suggestions for additional alternatives.

Summary of Expected Impacts

The effects of leasing and anticipated development under the Proposed Action are expected to include mining-induced subsidence and seismicity and hydrological effects (surface water and groundwater). Greenhouse gas emissions and air pollutant emissions are also expected to occur, including indirect effects associated with transportation and combustion of mined coal.

Anticipated Permits and Authorizations

The Applicant would need BLM approval of the LBA and/or LMA. In addition, should the LBA be approved, the Applicant would need a Resource Recovery Protection Plan for the Little Eccles Lease Tract prepared by the BLM which would establish the terms to achieve Maximum Economic Recovery (MER) as required by 43 CFR 3422.1. The Applicant would also need a mining permit and/or permit modification from Utah Division of Oil, Gas and Mining (UDOGM). Finally, a mining plan decision document prepared by the Office of Surface Mining Reclamation and Enforcement (OSMRE) would need approval from the Assistant Secretary for Land and Minerals Management before the Applicant could mine the LBA and/or LMA.

Schedule for the Decision-Making Process

The lead agencies will provide additional opportunities for public participation consistent with the NEPA process, including a 45-day comment period on the Draft EIS. Comment meeting(s) on the Draft EIS will be held concurrently with the MER and Fair Market Value hearing. The Draft EIS is anticipated to be available for public review in the fall of 2024, and the Final EIS is anticipated to be released in the spring of 2025 with Records of Decision later in spring of 2025.

Public Scoping Process

This notice of intent initiates the scoping period. The lead agencies will be holding one virtual scoping meeting and two in-person scoping meetings. The specific dates and locations of the scoping meeting will be announced in advance through the BLM ePlanning page (see ADDRESSES) and other lead agency websites (see ADDRESSES).

Lead and Cooperating Agencies

The BLM and USDA Forest Service are co-lead agencies. Based on special expertise and jurisdiction by law, OSMRE and the UDOGM are cooperating agencies. Based on special expertise on environmental impacts, the Environmental Protection Agency (EPA) is a cooperating agency.

Responsible Officials

The responsible official for the BLM is the BLM Utah State Director. The scope of the State Director's decision is limited to the LBA and the LMA. The responsible official for the USDA Forest Service is the Manti-La Sal National Forest Supervisor. The scope of the Forest Supervisor's decision is limited to consenting to lease.

Nature of Decision To Be Made

The BLM will decide to lease or to forgo leasing of the coal reserves in the Little Eccles Federal Coal Lease Tract and Flat Canyon Federal Coal Lease Tract. The USDA Forest Service will decide to consent to or deny consent to the leasing of the subject Federal coal tracts.

Forest Service Regulations

The decision that the USDA Forest Service will make is subject to a pre-decisional administrative review process, also known as an objection process (36 CFR 218, subparts A and B). The objection process provides an opportunity for members of the public who have participated in the planning process for the action to have any unresolved concerns reviewed by the USDA Forest Service prior to a final decision by the responsible official. It is important that reviewers provide their comments at such times and in such manner that they are useful to the agency's preparation of the final EIS; therefore, comments should be provided prior to the close of the comment period and should clearly articulate the reviewer's concerns and contentions. Commenting during scoping and any other designated opportunity to comment provided by the responsible official as prescribed by the applicable regulations will also govern eligibility to object once the final EIS and draft Record of Decision has been published. Comments received in response to this solicitation, including names and addresses of those who comment, will be part of the public record for this proposed action. Comments submitted anonymously will be accepted and considered; however, they will not be used to establish eligibility for the objection process.

Objections will be accepted only from those who have previously submitted specific written comments regarding the proposed project during scoping or other designated opportunity for public comment in accordance with § 218.5(a). Issues raised in objections must be based on previously submitted timely, specific written comments regarding the proposed project unless based on new information arising after designated opportunities.

Additional Information

The lead agencies will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation; and may be considered at multiple scales, including the landscape scale.

The lead agencies will utilize and coordinate the NEPA process to help support compliance with applicable procedural requirements under the Endangered Species Act (16 U.S.C. 1536) and section 106 of the National Historic Preservation Act (54 U.S.C. 306108) as provided in 36 CFR 800.2(d)(3), including public involvement requirements of section 106. The information about historic and cultural resources and threatened and endangered species within the area potentially affected by the proposed action will assist the lead agencies in identifying and evaluating impacts to such resources.

The lead agencies will consult with Indian Tribal Nations on a government-to-government basis in accordance with Executive Order 13175, Forest Service Handbook 1509.13, Forest Service Manual 1500, FS-1211 Strengthening Tribal Consultations and Nation-to-Nation Relationships. Presidential Memorandum on Tribal Consultation and Strengthening Nation-to-Nation Relationships, January 26, 2021, BLM Manual Section 1780, and other Departmental policies. Tribal concerns, including impacts on Indian trust assets and potential impacts to cultural resources, will be given due consideration. Federal, State, and local agencies, along with Indian Tribal Nations and other stakeholders that may be interested in or affected by the action the lead agencies are evaluating, are invited to participate in the scoping process and, if eligible, may request or be requested by the lead agencies to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9)

Gregory Sheehan,
BLM Utah State Director.
Barbara Van Alstine,
Acting Forest Supervisor, USDA Forest Service, Manti-La Sal National Forest.

[FR Doc. 2024-07846 Filed 4-12-24; 8:45 am]

BILLING CODE 4331-25-P